COMMODITY FUTURES TRADING COMMISSION

Global Markets Advisory Committee; Correction

AGENCY: Commodity Futures Trading Commission.

ACTION: Notice of meeting; correction.

SUMMARY: The Commodity Futures Trading Commission (CFTC) published a document in the Federal Register of October 25, 2024, announcing a virtual public meeting of the Global Markets Advisory Committee (GMAC or Committee) to be held on November 21, 2024, from 9:30 a.m. to 10:30 a.m. Eastern Time. The document contained incorrect webinar access information for the virtual meeting.

FOR FURTHER INFORMATION CONTACT: Harry Jung, GMAC Designated Federal Officer, Commodity Futures Trading Commission, Three Lafayette Centre, 1155 21st Street NW, Washington, DC; (202) 394-3995; or HJung@cftc.gov.

SUPPLEMENTARY INFORMATION:

Correction

In the Federal Register of October 25, 2024, in FR Doc. 2024-24918, on page 85176, in the first column, correct the Call-In/Webinar ID and the Pass Code/Pin Code to read:

Call-In/Webinar ID: 160 969 2349

Pass Code/Pin Code: 985116

(Authority: 5 U.S.C. 1009(a)(2).)

Dated: November 4, 2024.
Christopher Kirkpatrick,
Secretary of the Commission.

[FR Doc. 2024-25933 Filed 11-7-24; 8:45 am]

BILLING CODE 6351-01-P